DEPARTMENT OF STATE

[Public Notice 7980]

Culturally Significant Objects Imported for Exhibition Determinations: “Plants of Virtue and Rocks by a Stream” by Shitao

AGENCY: Department of State.

ACTION: Notice.

SUMMARY: Notice is hereby given of the following determinations: Pursuant to the authority vested in me by the Act of October 19, 1965, Executive Order 12047 of March 27, 1978, the Foreign Affairs Reform and Restructuring Act of 1998, Delegation of Authority No. 234 of October 1, 1999, and Delegation of Authority No. 236-3 of August 28, 2000 (and, as appropriate, Delegation of Authority No. 257 of April 15, 2003), I hereby determine that the object entitled “Plants of Virtue and Rocks by a Stream” by Shitao to be imported by The Santa Barbara Museum of Art from abroad for temporary exhibition within the United States, is of cultural significance. The object is imported pursuant to a loan agreement with the foreign owners or custodians. I also determine that the exhibition or display of the exhibit object at The Santa Barbara Museum of Art in Santa Barbara, California from on or about October 20, 2012 to on or about January 20, 2013, as part of its exhibition entitled “The Artful Recluse: Seventeenth Century Chinese Painting and Calligraphy”; and possible additional exhibitions or venues yet to be determined; is in the national interest. I have ordered that Public Notice of these Determinations be published in the Federal Register.

FOR FURTHER INFORMATION CONTACT: For further information, including a listing of the exhibit object, contact Ona M. Hahs, Attorney-Adviser, Office of the Legal Adviser, U.S. Department of State (telephone: 202-632-6473). The mailing address is U.S. Department of State, SA-5, L/PD, Fifth Floor (Suite 5H03), Washington, DC 20522-0505.

Dated: August 6, 2012.
J. Adam Ereli,
Principal Deputy Assistant Secretary, Bureau of Educational and Cultural Affairs, Department of State.

[FR Doc. 2012-19965 Filed 8-13-12; 8:45 am]

BILLING CODE 4710-05-P